DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 8, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Organic Certification Cost Share Program (OCCSP).

OMB Control Number: 0560-0289.

Summary of Collection: Organic Certification Cost Share Program (OCCSP) provides cost share assistance to producers and handlers of agricultural product who are obtaining or renewing their certification under the National Organic Program (NOP). The National Organic Certification Cost-Share Program (NOCCSP) is authorized under section 10606(d)(1) of the Farm Security and Rural Investment Act of 2002 (7 U.S.C. 7901 note), as amended by section 10004(c) of the Agricultural Act of 2014 (2014 Farm Bill; Pub. L. 113-79).

Need and Use of the Information: The Farm Service Agency (FSA) provides cost-share assistance, through FSA county offices and participating state agencies, to organic producers or handlers who are obtaining or renewing their certification under the National Organic Program. The information collected is needed to ensure that organic producers or handlers and State agencies are eligible for funding and comply with applicable program regulations. Without this collection of information, FSA would not be able to provide cost-share assistance to eligible producer or handler and state agencies.

Description of Respondents: Individuals or Households; State, Local and Tribal Government.

Number of Respondents: 15,659.

Frequency of Responses: Reporting: Semi-annually; Annually.

Total Burden Hours: 78,650.

Ruth Brown,
Departmental Information Collection Clearance Officer.

[FR Doc. 2023-02458 Filed 2-3-23; 8:45 am]

BILLING CODE 3410-05-P